DEPARTMENT OF TRANSPORTATION

Federal Aviation Administration

14 CFR Part 39

[Docket No. 2000-NE-48-AD; Amendment 39-13107; AD 2003-07-11]

RIN 2120-AA64

Airworthiness Directives; Rolls-Royce Deutschland Ltd & Co KG Models BR700-710A1-10 and BR700-710A2-20 Turbofan Engines; Correction

AGENCY: Federal Aviation Administration, DOT.

ACTION: Final rule; request for comments, correction.

SUMMARY: This document makes corrections to Airworthiness Directive (AD) 2003-07-11, applicable to Rolls-Royce Deutschland Ltd & Co KG (formerly Rolls-Royce Deutschland GmbH, formerly BMW Rolls-Royce GmbH), models BR700-710A1-10 and BR700-710A2-20 turbofan engines. AD 2003-07-11 was published in the Federal Register on April 11, 2003 (68 FR 17727). In the compliance section, paragraph (g) incorrectly references cycles and should reference hours, and the paragraph lettering sequence after paragraph (g) is incorrect. This document corrects cycles to hours and corrects the paragraph lettering sequence. In all other respects, the original document remains the same.

EFFECTIVE DATE: April 28, 2003.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: A final rule; request for comments airworthiness directive FR DOC 03-8327, applicable to Rolls-Royce Deutschland Ltd & Co KG models BR700-710A1-10 and BR700-710A2-20 turbofan engines, was published in the Federal Register on April 11, 2003 (68 FR 17727). The following correction is needed:

On page 17729, in the second column, under Repetitive Inspections heading, paragraph (g), third line, which reads “accumulating 500 cycles-since-the-last visual and ultrasonic inspections” is corrected to read “accumulating 500 hours-since-the-last visual and ultrasonic inspections”. Also, on page 17729, in the second column, under Inspection Reporting Requirements heading, paragraph letter “(g)” is corrected to read “(h)”, under Alternative Methods of Compliance heading, paragraph letter “(h)” is corrected to read “(i)”, under Special Flight Permits heading, paragraph “(i)” is corrected to read “(j)”, under Documents That Have Been Incorporated by Reference heading, paragraph “(j)” is corrected to read “(k)”, and in the third column, under Effective Date heading, paragraph “(k)” is corrected to read “(l)”.

Issued in Burlington, MA, on April 17, 2003.
Francis A. Favara,
Acting Manager, Engine and Propeller Directorate, Aircraft Certification Service.

[FR Doc. 03-9982 Filed 4-22-03; 8:45 am]

BILLING CODE 4910-13-P